DEPARTMENT OF COMMERCE

[I.D. 110102H]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Electronic Reporting Survey.

Form Number(s): None.

OMB Approval Number: None.

Type of Request: Regular submission.

Burden Hours: 657.

Number of Respondents: 3,940.

Average Hours Per Response: 10 minutes (0.166).

Needs and Uses: This collection would be a one-time survey of all vessel owners and seafood dealers that have an active Federal fisheries permit. The purpose of the survey is to determine the availability of personal computers and access to the Internet. This information would be used to help evaluate the potential for optional electronic reporting of catch and effort or other mandatory data.

Affected Public: Business or other for-profit organizations, and individuals or households.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: October 31, 2002.
Gwellnar Banks,
Management Analyst, Office of the Chief Information Officer.

[FR Doc. 02-28340 Filed 11-6-02; 8:45 am]

BILLING CODE 3510-22-S